DEPARTMENT OF ENERGY

Office of Science; Notice of Renewal of the Biological and Environmental Research Advisory Committee

AGENCY: Department of Energy.

ACTION: Notice of renewal.

SUMMARY: Pursuant to section 14(a)(2)(A) of the Federal Advisory Committee Act and in accordance with Title 41 of the Code of Federal Regulations, section 102-3.65, and following consultation with the Committee Management Secretariat, General Services Administration, notice is hereby given that the Biological and Environmental Research Advisory Committee has been renewed for a two-year period beginning December 11, 2005.

The Committee will provide advice to the Director, Office of Science, on the Biological and Environmental Research Program managed by the Office of Biological and Environmental Research. The Secretary of Energy has determined that renewal of the Biological and Environmental Research Advisory Committee is essential to the conduct of the Department's business and is in the public interest in connection with the performance of duties imposed by law upon the Department of Energy. The Committee will continue to operate in accordance with the provisions of the Federal Advisory Committee Act (Pub. L. 92-463), the General Services Administration Final Rule on Federal Advisory Committee Management, and other directives and instructions issued in implementation of those acts.

FOR FURTHER INFORMATION CONTACT: Ms. Rachel Samuel at (202) 586-3279.

Issued in Washington, D.C. on December 11, 2005.
Carol Matthews,
Acting Advisory Committee Management Officer.

[FR Doc. E5-7437 Filed 12-15-05; 8:45 am]

BILLING CODE 6450-01-P